DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2002, there were five applications approved. This notice also includes information on one application, approved in October, 2000, inadvertently left off the October 2000 notice. Additionally, 19 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Sarasota Manatee Airport Authority, Sarasota, Florida.

Application Number: 00-04-C-00-SRQ.

Application Type: Impose and use a PFC.

PFC Level: $3.00.

Total PFC Revenue Approved in this Decision: $36,126,915.

Earliest Charge Effective Date: April 1, 2002.

Estimated Charge Expiration Date: October 1, 2015.

Class of Air Carriers Not Required to Collect PFC's: Air taxi/commercial operators filing FAA Form 1800-31.

Determination: Approved. Based on information contained in the public agency's application, the FAA has determined that the approved class accounts for less than 1 percent of the total annual enplanements at Sarasota Bradenton International Airport.

Brief Description of Project Approved for Collection and Use: Airport terminal development.

Decision Date: October 3, 2000.

For Further Information Contact: Vernon P. Rupinta, Orlando Airports District Office, (407) 812-6331, ext. 24.

Public Agency: Palm Beach County Department of Airports, West Palm Beach, Florida.

Application Number: 02-06-U-00-PBI.

Application Type: Use PFC revenue.

PFC Level: $3.00.

Total PFC Revenue to Be Used in this Decision: $64,684,000.

Charge Effective Date: December 1, 2000.

Estimated Charge Expiration Date: December 1, 2005.

Class of Air Carriers Not Required to Collect PFC's: No change from previous approval.

Brief Description of Projects Approved for Use:

Construct taxiway A extension and canal relocation.

Construct perimeter road.

Decision Date: February 12, 2002.

For Further Information Contact: Vernon P. Rupinta, Orlando Airports District Office, (407) 812-6331, ext. 24.

Public Agency: City of Lynchburg, Virginia.

Application Number: 01-03-C-00-LYH.

Application Type: Impose and use a PFC.

PFC Level: $4.50.

Total PFC Revenue Approved in this Decision: $844,951.

Earliest Charge Effective Date: June 1, 2002.

Estimated Charge Expiration Date: January 1, 2005.

Class of Air Carriers Not Required to Collect PFC's: Nonscheduled/on-demand air taxi/commercial operators filing FAA Form 1800-31.

Determination: Approved. Based on information contained in the public agency's application, the FAA has determined that the approved class accounts for less than 1 percent of the total annual enplanements at Lynchburg Regional Airport.

Brief Description of Projects Approved for Collection and Use:

Acquire snow removal equipment.

PFC development and administration costs.

Acquire aircraft rescue and firefighting vehicle.

Design and install airfield guidance signs.

Design and install precision approach path indicator for runway 3.

Design and install security access control system.

Rehabilitate general aviation apron.

Expand general aviation apron.

Rehabilitate and light access road.

Acquire land for development.

Rehabilitate high intensity runway lights for runway 3/21.

Rehabilitate medium intensity taxiway lights for taxiway B.

Acquire land for runway 21 runway protection zone.

Obstruction removal.

Rehabilitate runway 17/35 (design).

Rehabilitate runway 3/21 (design).

Construct snow equipment/maintenance building.

Acquire passenger lift design.

Brief Description of Disapproved Projects:

Acquire friction measuring equipment.

Acquire security equipment.

Update airport layout plan.

Determination: Disapproved. The FAA has determined that the addition of these projects by letter dated September 4, 2001, after the airline consultation meeting on May 8, 2001, is in violation of § 158.23.

Brief Description of Withdrawn Project: Rehabilitate runways 3/21 and 17/35.

Determination: This project was withdrawn by the public agency by letter dated September 24, 2001. Therefore, the FAA did not rule on this project in this decision.

Decision Date: February 12, 2002.

For Further Information Contact: Arthur Winder, Washington Airports District Office, (703) 661-1363.

Public Agency: County Commissioners of Washington County, Hagerstown, Maryland.

Application Number: 02-02-U-00-HGR.

Application Type: Use PFC revenue.

PFC Level: $4.50.

Total PFC Revenue To Be Used in This Decision: $206,000.

Charge Effective Date: August 1, 1999.

Estimated Charge Expiration Date: May 1, 2005.

Class of Air Carriers Not Required to Collect PFC's: No change from previous approval.

Brief Description of Project Approved for Use:

Construct snow equipment and maintenance building.

Decision Date: February 21, 2002.

For Further Information Contact: Arthur Winder, Washington Airports District Office, (703) 661-1363.

Public Agency: City of Albuquerque, New Mexico.

Application Number: 02-02-C-00-ABQ.

Application Type: Impose and use a PFC.

PFC Level: $3.00.

Total PFC Revenue Approved in this Decision: $44,483,079.

Earliest Charge Effective Date: May 1, 2002.

Estimated Charge Expiration Date: December 1, 2007.

Class of Air Carriers Not Required to Collect PFC's: Air taxi/commercial operators operating under Part 135 and filing FAA Form 1800-31.

Determination: Approved. Based on information contained on the public agency's application, the FAA has determined that the approved class accounts for less than 1 percent of the total annual enplanements at Albuquerque International Support (ABQ).

Brief Description of Project Approved for Collection at ABQ and Use at ABQ:

1993 master plan update.

Taxiway E reconstruction.

Taxiways A and B improvements.

Terminal appron expansion.

Runway 3/21 extension and upgrade.

Runway 12/30 extension and reconstruction.

Construct access road.

Construct Support Boulevard.

Expand air cargo apron.

PFC application administration costs.

Brief Description of Project Approved for Collection at ABQ and Use at Double Eagle II Airport:

Apron expansion.

Taxiway improvements.

Runway improvements.

Decision Date: February 27, 2002.

For Further Information Contact: G. Thomas Wade, Southwest Region Airports Division, ((817) 222-5613.

Public Agency: Salt Lake City Corporation, Department of Airports, Salt Lake City, Utah.

Application Number: 01-04-C-00-SLC.

Application Type: Impose and use a PFC.

PFC Level: $4.50.

Total PFC Revenue Approved in this Decision: $28,887,570.

Earliest Charge Effective Date: May 1, 2002.

Estimated Charge Expiration Date: February 1, 2003.

Class of Air Carriers Not Required to Collect PFC's: All air taxi/commercial operators filing or required to file FAA Form 1800-31.

Determination: Approved. Based on information contained in the public agency's application, the FAA has determined that the approved class accounts for less than 1 percent of the total annual enplanements at Salt Lake City International Airport (SLC).

Brief Description of Projects Approved for Collection and Use at SLC at a $4.50 PFC Level:

Computerized access security system (CASS) upgrade, phase, I.

CASS upgrade, phase II.

Security enhancements.

Security fence upgrade, phase III.

Airfield replacement equipment.

Runway 16L/34R storm drainage improvements.

Concourse A passenger boarding bridge modifications.

Category III and approach lighting system will sequence flashers—II, runway 16R (now runway 16L).

North cargo apron expansion, phase II.

Taxiway H reconstruction—phase III.

Land acquisition.

Schematic design study.

Terminal 1 south expansion.

Brief Description of Projects Approved for Collection and Use at SLC at a $3.00 PFC Level:

Continuous pavement friction test vehicle.

Snow and ice control chemical storage facility.

Owner controlled insurance program professional liability coverage.

Bus access plaza south of TU-1.

Terminal roadway capacity improvements.

Brief Description of Project Approved for Collection at SLC and Use at Airport II at a $3.00 PFC Level: Security fence.

Brief Description of Projects Approved for Collection at SLC and Use at Tooele Valley Airport (TVY) At at $3.00 PFC Level:

Navigational upgrades.

Land acquisition.

Brief Description of Project Partially Approved for Collection and Use at SLC at a $3.00 PFC Level: Deicing and anti-icing chemical storage facility.

Determination: Partially approved. The storage tank for the deicing fluids is not Airport Improvement Program (AIP) and PFC eligible in accordance with Program Guidance Letter 93-1. 4. Therefore, the approval is limited to the costs associated with the storage building.

Brief Description of Project Partially Approved for Collection at SLC and Use at TVY at a $3.00 PFC Level: Water system.

Determination: Partially approved. Based on information presented to the carriers at the airline consultation meeting, a portion of this project will supply potable water to private airport buildings, which is ineligible under both the PFC and AIP programs. Therefore, the approval was limited to the portion of the system needed for fire suppression.

Brief Description of Disapproved Projects: Emergency power to jetways.

Determination: Disapproved. The FAA has determined that this project does not meet the requirements for emergency power in accordance with paragraph 530a of FAA Order 5100.38A, AIP Handbook (October 24, 2989).

Incinerator replacement.

Determination: Disapproved. The FAA has determined that this project is not AIP or PFC eligible and does not meet the requirement of § 158.15(b). In addition, the project does not meet any PFC objective and, this, does not meet the requirements of § 158.15(a).

Decision Date: February 28, 2002.

For Further Information Contact: Christopher J. Schaffer, Denver Airports District Office, (303) 342-1258.

Amendments to PFC Approvals

Amendment No.; City, State | Amendment approved date | Original approved net PFC revenue | Amended approved net PFC revenue | Original estimated charge exp. date | Amended estimated charge exp. date
93-01-C-03-SJT, San Angelo, TX | 11/07/01 | $766,009 | $655,769 | 05/01/06 | 12/01/05
96-02-U-01-SJT, San Angelo, TX | 11/07/01 | NA | NA | 05/01/06 | 12/01/05
96-02-C-01-CAK, Akron, OH | 12/20/01 | 1,764,490 | 1,681,810 | 10/01/99 | 03/01/98
98-03-C-01-CAK, Akron, OH | 12/21/01 | 2,481,900 | 1,748,860 | 02/01/03 | 09/01/99
93-01-C-06-MDW, Chicago, IL | 01/10/02 | 131,084,161 | 118,930,037 | 11/01/44 | 10/01/45
96-05-C-02-MDW, Chicago, IL | 01/10/02 | 156,538,543 | 178,087,493 | 11/01/44 | 10/01/45
00-07-C-01-MDW, Chicago, IL | 01/10/02 | 592,053,661 | 611,521,327 | 11/01/44 | 10/01/45
99-04-C-03-BGM, Binghamton, NY | 01/29/02 | 1,567,748 | 1,572,978 | 04/01/06 | 04/01/02
*01-03-C-01-LFT, Lafayette, LA | 02/14/02 | 2,323,000 | 2,323,000 | 04/01/04 | 10/01/03
*00-04-C-01-SRQ, Sarasota, FL | 02/22/02 | 36,126,915 | 38,495,063 | 10/01/15 | 02/01/14
92-01-I-03-SPI, Springfield, IL | 02/27/02 | 576,026 | 639,231 | 02/01/94 | 02/01/94
93-02-U-01-SPI, Springfield, IL | 02/27/02 | NA | NA | 02/01/94 | 02/01/94
95-05-U-01-SPI, Springfield, IL | 02/27/02 | NA | NA | 02/01/94 | 02/01/94
*93-03-I-05-SPI, Springfield, IL | 02/27/02 | 3,941,493 | 3,971,208 | 02/01/06 | 10/01/07
*97-08-C-02-SPI, Springfield, IL | 02/27/02 | 212,000 | 375,000 | 05/01/07 | 08/01/08
00-05-C-02-MSP, Minneapolis, MN | 02/27/02 | 106,873,838 | 122,873,838 | 12/01/02 | 07/01/03
94-02-C-02-JAC, Jackson, WY | 02/27/02 | 1,145,500 | 1,146,830 | 10/01/97 | 10/01/97
97-03-C-02-02-JAC, Jackson, WY | 02/27/02 | 304,000 | 304,000 | 08/01/98 | 08/01/98
99-03-C-01-DRO, Durango, CO | 02/28/02 | 699,627 | 730,634 | 06/01/03 | 09/01/02

Note: The amendments denoted by an asterisk (*) include a change to the PFC level charged from $3.00 per enplaned passenger to $4.50 per enplaned passenger. For Lafayette, LA, this change is effective on April 1, 2002. For Sarasota, FL and Springfield, IL, this change is effective on May 1, 2002.

Issued in Washington, DC, on March 27, 2002.
Barry Molar,
Manager, Airports Financial Assistance Division.

[FR Doc. 02-8149 Filed 4-3-02; 8:45 am]

BILLING CODE 4910-13-M